DEPARTMENT OF HEALTH AND HUMAN SERVICES

Food and Drug Administration

21 CFR Part 1

[Docket No. FDA-2011-N-0146]

RIN 0910-AH23

User Fee Program To Provide for Accreditation of Third-Party Auditors/Certification Bodies To Conduct Food Safety Audits and To Issue Certifications; Correction

AGENCY: Food and Drug Administration, HHS.

ACTION: Proposed rule; correction.

SUMMARY: The Food and Drug Administration (FDA or we) is correcting a document that appeared in the Federal Register of July 24, 2015, entitled “User Fee Program for Accreditation of Third-Party Auditors/Certification Bodies To Conduct Food Safety Audits and To Issue Certifications.” That document proposed amending the document, “Accreditation of Third-Party Auditors/Certification Bodies to Conduct Food Safety Audits and to Issue Certifications,” and proposed establishing a reimbursement (user fee) program to assess fees and require reimbursement for the work performed to establish and administer the system for the Accreditation of Third-Party Auditors under the FDA Food Safety Modernization Act (FSMA). The document was published with an incorrect RIN. This document corrects that error.

FOR FURTHER INFORMATION CONTACT: Charlotte Christin, Center for Food Safety and Applied Nutrition, Food and Drug Administration, 5100 Paint Branch Pkwy., College Park, MD 20740, 240-402-3708.

SUPPLEMENTARY INFORMATION: In FR Doc. 2015-18141, in the Federal Register of July 24, 2015 (80 FR 43987), appearing on page 43987, in the second column, the RIN number heading is corrected to read “RIN 0910-AH23.”

Dated: September 11, 2015.
Leslie Kux,
Associate Commissioner for Policy.

[FR Doc. 2015-23333 Filed 9-16-15; 8:45 am]

BILLING CODE 4164-01-P